DEPARTMENT OF TRANSPORTATION

Federal Aviation Administration

Notice of Intent To Rule on Application (02-04-C-00-PUW) To Impose and Use, the Revenue From a Passenger Facility Charge (PFC) at Pullman-Moscow Regional Airport, Submitted by the Pullman-Moscow Regional Airport, Pullman, WA

AGENCY: Federal Aviation Administration (FAA), DOT.

ACTION: Notice of intent to rule on application.

SUMMARY: The FAA proposes to rule and invites public comment on the application to: impose and use PFC revenue at Pullman-Moscow Regional Airport under the provisions of 49 U.S.C. 40117 and part 158 of the Federal Aviation Regulations (14 CFR 158).

DATES: Comments must be received on or before October 7, 2002.

ADDRESSES: Comments on this application may be mailed or delivered in triplicate to the FAA at the following address: Mr. J. Wade Bryant, Manager; Seattle Airports District Office, SEA-ADO; Federal Aviation Administration; 1601 Lind Avenue SW., suite 250, Renton, Washington 98055-4056.

In addition, one copy of any comments submitted to the FAA must be mailed or delivered to Mr. Robb Parish, Airport Manager, at the following address: 3200 Airport Complex North, PO Box 249, Pullman, WA 99163-0249.

Air Carriers and foreign air carriers may submit copies of written comments previously provided to Pullman-Moscow Regional Airport, under section 158.23 of Part 158.

FOR FURTHER INFORMATION CONTACT: Ms. Suzanne Lee-Pang, (425) 227-2654, Seattle Airports District Office, SEA-ADO; Federal Aviation Administration; 1601 Lind Avenue SW., Suite 250, Renton, Washington 98055-4056. The application may be reviewed in person at this same location.

SUPPLEMENTARY INFORMATION: The FAA proposes to rule and invites public comment on the application 02-04-C-00-PUW to impose and use PFC revenue at Pullman-Moscow Regional Airport, under the provisions of 49 U.S.C. 40117 and part 158 of the Federal Aviation Regulations (14 CFR part 158).

On August 12, 2002, the FAA determined that the application to impose and use the revenue from a PFC submitted by Moscow-Pullman Regional Airport Name, Pullman, Washington was substantially complete within the requirements of section 158.25 of part 158. The FAA will approve or disapprove the application, in whole or in part, no later than November 12, 2002.

The following is a brief overview of the application.

Level of the proposed PFC: $4.50.

Proposed charge effective date: May 1, 2004.

Proposed charge expiration date: January 1, 2005.

Total requested for use approval: $89,900.00.

Brief description of proposed project: Purchase Kopf LLC property (for RPZ); Snow Removal Equipment Building Expansion; Security Upgrades; Airfield Friction Meter Device.

Class or classes of air carriers that the public agency has requested not be required to collect PFC's: Air Taxi/Commercial Operators who conduct operations in air commerce carrying persons for compensation for hire.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at the Pullman-Moscow Regional Airport.

Issued in Renton, Washington, on August 12, 2002.
David A. Field,
Manager, Planning, Programming and Capacity Branch, Northwest Mountain Region.

[FR Doc. 02-22753 Filed 9-5-02; 8:45 am]

BILLING CODE 4910-13-M